DEPARTMENT OF TRANSPORTATION

Federal Aviation Administration

14 CFR Part 39

[Docket No. FAA-2022-1658; Project Identifier MCAI-2022-01597-R; Amendment 39-22293; AD 2022-27-08]

RIN 2120-AA64

Airworthiness Directives; Bell Textron Canada Limited Helicopters

AGENCY: Federal Aviation Administration (FAA), DOT.

ACTION: Final rule; request for comments.

SUMMARY: The FAA is adopting a new airworthiness directive (AD) for certain Bell Textron Canada Limited Model 407 helicopters. This AD was prompted by an accident. This AD requires inspecting the tailboom attachment structure, as specified in a Transport Canada AD, which is incorporated by reference. The FAA is issuing this AD to address the unsafe condition on these products.

DATES: This AD becomes effective January 12, 2023.

The Director of the Federal Register approved the incorporation by reference of a certain publication listed in this AD as of January 12, 2023.

The FAA must receive comments on this AD by February 13, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2022-1658; or in person at Docket Operations between 9 a.m. and 5 p.m., Monday through Friday, except Federal holidays. The AD docket contains this final rule, any comments received, and other information. The address for Docket Operations is listed above.

Material Incorporated by Reference:

• For Transport Canada material that is incorporated by reference in this final rule, contact Transport Canada, Transport Canada National Aircraft Certification, 159 Cleopatra Drive, Nepean, Ontario, K1A 0N5, CANADA; telephone 888-663-3639; email TC.AirworthinessDirectives-Consignesdenavigabilite.TC@tc.gc.ca; internet tc.canada.ca/en/aviation. You may find the Transport Canada material on the Transport Canada website at tc.canada.ca/en/aviation.

• You may view this material at the FAA, Office of the Regional Counsel, Southwest Region, 10101 Hillwood Pkwy., Room 6N-321, Fort Worth, TX 76177. For information on the availability of this material at the FAA, call (817) 222-5110. It is also available at regulations.gov under Docket No. FAA-2022-1658.

Other Related Service Information: For Bell service information identified in this final rule, contact Bell Textron Canada Limited, 12,800 Rue de l'Avenir, Mirabel, Quebec J7J 1R4, Canada; telephone 1-450-437-2862 or 1-800-363-8023; fax 1-450-433-0272; email productsupport@bellflight.com; or at bellflight.com/support/contact-support. You may also view this service information at the FAA contact information under Material Incorporated by Reference above.

FOR FURTHER INFORMATION CONTACT: Kristi Bradley, Program Manager, COS Program Management Section, Operational Safety Branch, Compliance & Airworthiness Division, FAA, 10101 Hillwood Pkwy., Fort Worth, TX 76177; telephone (817) 222-5110; email kristin.bradley@faa.gov.

SUPPLEMENTARY INFORMATION:

Background

Transport Canada, which is the aviation authority for Canada, has issued Transport Canada AD CF-2022-68, dated December 15, 2022 (Transport Canada AD CF-2022-68), following issuance of National Transportation Safety Board (NTSB) Aviation Accident Preliminary Report Number ANC22FA041, to correct an unsafe condition for certain serial-numbered Bell Textron Canada Limited Model 407 helicopters.

This AD was prompted by an accident. The FAA is issuing this AD to address failure of the tailboom attachment hardware. See Transport Canada AD CF-2022-68 for additional background information.

Related Service Information Under 1 CFR Part 51

Transport Canada AD CF-2022-68 requires checking (inspecting) the torque on the tailboom attachment nuts and depending on the results, replacing parts with new parts and stabilizing the torque. Transport Canada AD CF-2022-68 also requires a detailed visual inspection of the existing sealant application of the aft fuselage attachment fittings and depending on the results, removing the sealant, accomplishing a detailed visual inspection of the tailboom attachment structure (fittings, aft frames, aft fuselage bulkhead, aft section of the canted web, tailboom canted bulkhead, and upper and lower tailboom longerons), repair, and reapplying sealant. If the detailed visual inspection of the tailboom attachment structure was not required as a result of the existing sealant application inspection, Transport Canada AD CF-2022-68 also requires accomplishing the detailed visual inspection of the tailboom attachment structure and depending on the results, repair. Transport Canada AD CF-2022-68 prohibits installing a tailboom until inspection of the security of the shims on the forward face of the tailboom bulkhead and elongation of the four bolt holes in the tailboom and fuselage fittings, and any repair, is accomplished. Lastly, Transport Canada AD CF-2022-68 requires reporting information to Bell.

This material is reasonably available because the interested parties have access to it through their normal course of business or by the means identified in the ADDRESSES section.

Other Related Service Information

The FAA also reviewed Bell Alert Service Bulletin 407-22-128, dated December 8, 2022. This service information specifies procedures for checking (inspecting) the torque of the aft fuselage attachment nuts and depending on the results, replacing parts with new parts, retaining the removed parts for further investigation by Bell, stabilizing the torque, applying corrosion preventive compound, and recording information. This service information also specifies, using a powerful light and mirror, inspecting the existing sealant application of the aft fuselage attachment fittings and depending on the results, removing the sealant, accomplishing a detailed visual inspection of the tailboom attachment structure (fittings, the aft frames, aft fuselage bulkhead, aft section of the canted web, the tailboom canted bulkhead, and upper and lower longerons), repair, reapplying sealant, and recording information. For tailbooms that are not installed on a helicopter, this service information specifies procedures for ensuring that the four shims are securely bonded in position on the forward face of the tailboom bulkhead, examining the four bolt holes in the tailboom and fuselage fittings for elongation, discarding certain removed parts, examining certain other parts, replacing parts, and recording information. Lastly, this service information specifies procedures for reporting the previously recorded information to Bell.

FAA's Determination

These helicopters have been approved by the aviation authority of Canada and are approved for operation in the United States. Pursuant to the FAA's bilateral agreement with Canada, Transport Canada, its technical representative, has notified the FAA of the unsafe condition described in its AD. The FAA is issuing this AD after evaluating all pertinent information and determining that the unsafe condition exists and is likely to exist or develop on other helicopters of the same type design.

Requirements of This AD

This AD requires accomplishing the actions specified in Transport Canada AD CF-2022-68, described previously, as IBRed, except for any differences identified as exceptions in the regulatory text of this AD and except as discussed under “Differences Between this AD and the Transport Canada AD.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, Transport Canada AD CF-2022-68 is IBRed in this FAA final rule. This AD, therefore, requires compliance with Transport Canada AD CF-2022-68 in its entirety through that incorporation, except for any differences identified as exceptions in the regulatory text of this AD. Using common terms that are the same as the heading of a particular section in Transport Canada AD CF-2022-68 does not mean that operators need comply only with that section. For example, where the AD requirement refers to “all required actions and compliance times,” compliance with this AD requirement is not limited to the section titled “Corrective Actions” in Transport Canada AD CF-2022-68. Service information referenced in Transport Canada AD CF-2022-68 for compliance will be available at regulations.gov under Docket No. FAA-2022-1658 after this final rule is published.

Differences Between This AD and the Transport Canada AD

Transport Canada AD CF-2022-68 requires torque checks, whereas this AD requires torque inspections because those actions must be accomplished by a mechanic that meets the requirements of 14 CFR part 65 subpart D. Transport Canada AD CF-2022-68 requires retaining removed parts for further investigation by Bell, whereas this AD does not include that requirement. However, operators may choose to retain the parts for further investigation by Bell as this AD does not prohibit an operator from doing so. Transport Canada AD CF-2022-68 does not specify the compliance time to accomplish the repetitive (stabilization) torque checks (inspections) in its AD, whereas this AD does. Transport Canada AD CF-2022-68 requires contacting Bell Product Support Engineering for a repair or instructions to rectify any defect, whereas this AD requires a repair done in accordance with a certain approval. Lastly, Transport Canada AD CF-2022-68 specifies to report inspection results within 30 days, whereas this AD requires reporting inspection results within 10 days instead.

Interim Action

The FAA considers this AD interim action. If final action is later identified, the FAA might consider further rulemaking then.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because the tailboom attachment hardware was involved in an accident where the tailboom attachment hardware failed during flight, resulting in the tailboom separating from the helicopter and loss of control of the helicopter. Failure of the tailboom attachment hardware could occur during any phase of flight without any previous indication. As the FAA has no information pertaining to the extent of this condition of the tailboom attachment hardware that may currently exist in helicopters or how quickly the condition may propagate to failure, the compliance time to complete the required inspections is within 25 hours time-in-service or 30 days, whichever occurs first, which is shorter than the time necessary for the public to comment and for publication of the final rule. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2022-1658; Project Identifier MCAI-2022-01597-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Kristi Bradley, Program Manager, COS Program Management Section, Operational Safety Branch, Compliance & Airworthiness Division, FAA, 10101 Hillwood Pkwy., Fort Worth, TX 76177; telephone (817) 222-5110; email kristin.bradley@faa.gov. Any commentary that the FAA receives that is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 839 helicopters of U.S. Registry. Labor rates are estimated at $85 per work-hour. Based on these numbers, the FAA estimates the following costs to comply with this AD.

Torque inspecting the tailboom attachment hardware, and visually inspecting the sealant and the tailboom attachment structure takes about 2 work-hours for an estimated cost of $170 per helicopter and $142,630 for the U.S. fleet. If required, replacing a bolt and nut set takes about 2 work-hours and parts cost about $170 for an estimated cost of $340 per replacement. Stabilizing the torque takes about 1 work-hour for an estimated cost of $85 per instance. The FAA has no data to determine the costs to accomplish approved repairs. Reporting information takes about 1 work-hour for an estimated cost of $85 per helicopter and $71,315 for the U.S. fleet.

Paperwork Reduction Act

A federal agency may not conduct or sponsor, and a person is not required to respond to, nor shall a person be subject to penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-27-08 Bell Textron Canada Limited: Amendment 39-22293; Docket No. FAA-2022-1658; Project Identifier MCAI-2022-01597-R.

(a) Effective Date

This airworthiness directive (AD) is effective January 12, 2023.

(b) Affected ADs

None.

(c) Applicability

This AD applies to Bell Textron Canada Limited Model 407 helicopters serial numbers 53000 through 53900 inclusive, 53911 through 53999 inclusive, 54000 through 54166 inclusive, 54300 through 54800 inclusive, 54805 through 54954 inclusive, 54956 through 54997 inclusive, 54999, and 56300 through 56304 inclusive, certificated in any category.

(d) Subject

Joint Aircraft System Component (JASC) Code: 5302, Rotorcraft Tail Boom.

(e) Unsafe Condition

This AD was prompted by an accident. The FAA is issuing this AD to address failure of the tailboom attachment hardware. The unsafe condition, if not addressed, could result in separation of the tailboom from the helicopter and subsequent loss of control of the helicopter.

(f) Compliance

Comply with this AD within the compliance times specified, unless already done.

(g) Requirements

Except as specified in paragraph (h) of this AD: Comply with all required actions and compliance times specified in, and in accordance with, Transport Canada AD CF-2022-68, dated December 15, 2022 (Transport Canada AD CF-2022-68).

(h) Exceptions to Transport Canada AD CF-2022-68

(1) Where Transport Canada AD CF-2022-68 requires compliance in terms of hours air time, this AD requires using hours time-in-service (TIS).

(2) Where Transport Canada AD CF-2022-68 refers to its effective date, this AD requires using the effective date of this AD.

(3) Where paragraph A. of Transport Canada AD CF-2022-68 refers to torque checks, this AD requires torque inspections.

(4) Where the service information referenced in paragraph A. of Transport Canada AD CF-2022-68 specifies to retain removed parts for further investigation, this AD does not include that requirement.

(5) Where paragraph A. of Transport Canada AD CF-2022-68 specifies to “carry out the repetitive torque check of the tailboom attachment nuts at all four locations in accordance with the applicable ASB until the torque has stabilized;” for this AD, accomplish that torque inspection after accumulating 1 hour TIS, but not to exceed 5 hours TIS, after replacing each affected bolt and nut set. If the torque on a tailboom attachment nut is not within its allowable torque limit, before further flight, re-torque the nut to its allowable torque limit. Thereafter, repeat the torque inspection of each tailboom attachment nut after accumulating 1 hour TIS, but not to exceed 5 hours TIS, until the torque for all four tailboom attachment points has stabilized.

(6) Where paragraph C. of Transport Canada AD CF-2022-68 refers to “defect,” this AD defines that as a crack, dent, loose fastener, unsecure attachment, deformation, or corrosion.

(7) Where paragraph C. of Transport Canada AD CF-2022-68 specifies to contact Bell Product Support Engineering for a repair or instructions to rectify any defect, this AD requires repair done in accordance with a method approved by the Manager, General Aviation & Rotorcraft Section, International Validation Branch, FAA; or Transport Canada; or Bell Textron Canada Ltd.'s Transport Canada Design Approval Organization (DAO). If approved by the DAO, the approval must include the DAO-authorized signature.

(8) Where the service information referenced in paragraph C. of Transport Canada AD CF-2022-68 specifies to discard parts, this AD requires removing those parts from service.

(9) Where paragraph D. of Transport Canada AD CF-2022-68 specifies to report inspection results to Bell Product Support Engineering within 30 days after accomplishing the inspections required by paragraphs A. or C., this AD requires reporting inspection results at the applicable time in paragraph (h)(9)(i) or (ii) of this AD.

(i) If the inspection was done on or after the effective date of this AD: Submit the report within 10 days after accomplishing the actions required by paragraph A. or C. of Transport Canada AD CF-2022-68.

(ii) If the inspection was done before the effective date of this AD: Submit the report within 10 days after the effective date of this AD.

(i) Special Flight Permit

Special flight permits may be issued in accordance with 14 CFR 21.197 and 21.199, provided no passengers are onboard.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Kristi Bradley, Program Manager, COS Program Management Section, Operational Safety Branch, Compliance & Airworthiness Division, FAA, 10101 Hillwood Pkwy., Fort Worth, TX 76177; telephone (817) 222-5110; email kristin.bradley@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) Transport Canada AD CF-2022-68, dated December 15, 2022.

(ii) [Reserved]

(3) For Transport Canada AD CF-2022-68, contact Transport Canada, Transport Canada National Aircraft Certification, 159 Cleopatra Drive, Nepean, Ontario, K1A 0N5, CANADA; telephone 888-663-3639; email TC.AirworthinessDirectives-Consignesdenavigabilite.TC@tc.gc.ca; internet tc.canada.ca/en/aviation. You may find the Transport Canada material on the Transport Canada website at tc.canada.ca/en/aviation.

(4) You may view this service information at the FAA, Office of the Regional Counsel, Southwest Region, 10101 Hillwood Pkwy., Room 6N-321, Fort Worth, TX 76177. For information on the availability of this material at the FAA, call (817) 222-5110.

(5) You may view this material that is incorporated by reference at the National Archives and Records Administration (NARA). For information on the availability of this material at NARA, email fr.inspection@nara.gov, or go to: www.archives.gov/federal-register/cfr/ibr-locations.html.

Issued on December 21, 2022.
Christina Underwood,
Acting Director, Compliance & Airworthiness Division, Aircraft Certification Service.

[FR Doc. 2022-28315 Filed 12-23-22; 11:15 am]

BILLING CODE 4910-13-P